DEPARTMENT OF THE INTERIOR

National Park Service

National Register of Historic Places; Notification of Pending Nominations and Related Actions

Nominations for the following properties being considered for listing or related actions in the National Register were received by the National Park Service before June 30, 2007. Pursuant to § 60.13 of 36 CFR Part 60 written comments concerning the significance of these properties under the National Register criteria for evaluation may be forwarded by United States Postal Service, to the National Register of Historic Places, National Park Service, 1849 C St. NW., 2280, Washington, DC 20240; by all other carriers, National Register of Historic Places, National Park Service, 1201 Eye St. NW., 8th floor, Washington, DC 20005; or by fax, 202-371-6447. Written or faxed comments should be submitted by August 2, 2007.

J. Paul Loether,
Chief, National Register of Historic Places/National Historic Landmarks Program.

CALIFORNIA

Alameda County

Eden Congregational Church, 1046 Grove Way, Hayward, 07000788

COLORADO

Prowers County

Willow Creek Park, (New Deal Resources on Colorado's Eastern Plains MPS) Roughly bounded by Memorial Dr., Parkview Ave., Willow Balley Rd., Lamar, 07000789

Routt County

Columbine, 645 Routt County Rd. 129, Clark, 07000791

Steamboat Laundry Building, 127 and 131 11th St., Steamboat Springs, 07000790

DELAWARE

New Castle County

Cool Spring Park Historic District (Boundary Increase), Roughly N. Rodney St., W. Ninth St., W. Tenth St., Pennsylvania Ave., Delaware Ave., N. Jackson St., Wilmington, 07000792

MAINE

Oxford County

Albany Town House, Jct. of ME 5 and ME 35, Albany Township, 07000793

Greenwood Cattle Pound, Greenwood Rd., 0.33 mi N of ME 219, Greenwood, 07000794

NORTH CAROLINA

Catawba County

Lylerly Full Fashioned Mill, (Hickory MRA) 56 Third St., SE., Hickory, 07000808

PENNSYLVANIA

Bucks County

Springhouse Farm, 2184 Springhouse Ln., Springfield, 07000796

Lycoming County

Houseknecht Farm, (Agricultural Resources of Pennsylvania MPS) 812 J. Houseknecht Rd., Moreland, 07000795

Philadelphia County

Rodeph Shalom Synagogue, 607-615 N. Broad St., Philadelphia, 07000797

SOUTH CAROLINA

Greenville County

Burdette Building (Boundary Decrease), 104 E. Curtis St., Simpsonville, 07000809

Spartanburg County

Wright, Mary H., Elementary School, 201 Caulder Ave., Spartanburg, 07000798

VIRGINIA

Bath County

Oakley Farm, 11865 Sam Snead Highway (US 220), Warm Springs, 07000803

Hampton Independent City Hampton City Hall, 100 Kings Way, Hampton (Independent City), 07000806

Hopewell Independent City

Kippax Plantation Archeological Site, Address Restricted, Hopewell (Independent City), 07000799

King William County

Roseville Plantation, 3736 Herring Creek Rd., Aylett, 07000800

Norfolk Independent City

Southern Bagging Company, 1900 Monticello Ave., Norfolk (Independent City), 07000804

Portsmouth Independent City

Fort Nelson Chapter of the Daughters of the American Revolution Chapter House, 506 Westmoreland Ave., Portsmouth (Independent City), 07000805

Roanoke Independent City

Salem Avenue—Roanoke Automotive Commerical Historic District, Geneally Salem Ave., Rorer Ave., Campbell Ave., bet. 3rd and 6th Sts., Roanoke (Independent City), 07000807

Warren County

Mountain House, 2471 Remound Rd., Front Royal, 07000801

Washington County

Moonlite Theatre, 17555 Lee Highway, Abingdon, 07000802

A request for REMOVAL has been made for the following resource:

MARYLAND

Charles County

Widow's Pleasure Piney Church Rd.

Waldorf vicinity, 89000664

[FR Doc. E7-13849 Filed 7-17-07; 8:45 am]

BILLING CODE 4312-51-P